DEPARTMENT OF THE INTERIOR

Fish and Wildlife Service

50 CFR Part 17

[Docket No. FWS-HQ-IA-2021-0099; FXIA16710900000-223-FF09A30000]

RIN 1018-BG66

Endangered and Threatened Wildlife and Plants; Revision to the Section 4(d) Rule for the African Elephant

AGENCY: Fish and Wildlife Service, Interior.

ACTION: Proposed rule; extension of comment period.

SUMMARY: We, the U.S. Fish and Wildlife Service (Service), are extending the comment period on our November 17, 2022, proposed rule to revise the rule for the African elephant (Loxodonta africana) promulgated under section 4(d) of the Endangered Species Act of 1973, as amended (ESA). We are extending the comment period for 60 days to give all interested parties an additional opportunity to comment. Comments previously submitted need not be resubmitted as they are already incorporated into the public record and will be fully considered in the proposed rule.

DATES: The comment period on the proposed rule that published November 17, 2022, at 87 FR 68975, is extended. We will accept comments received or postmarked on or before March 20, 2023. Comments submitted electronically using the Federal eRulemaking Portal (see ADDRESSES, below) must be received by 11:59 p.m. eastern time on the closing date, and comments submitted by U.S. mail must be postmarked by that date to ensure consideration.

ADDRESSES: Document availability: The proposed rule and supporting documents, including the draft environmental assessment and economic analysis, are available at https://www.regulations.gov under Docket No. FWS-HQ-IA-2021-0099.

Written comments: You may submit comments by one of the following methods:

(1) Electronically: Go to the Federal eRulemaking Portal: https://www.regulations.gov. In the Search box, enter FWS-HQ-IA-2021-0099, which is the docket number for this rulemaking. Then click on the Search button. On the resulting page, in the panel on the left side of the screen, under the Document Type heading, click on the Proposed Rules link to locate this document. You may submit a comment by clicking on “Comment.”

(2) By hard copy: Submit by U.S. mail to: Public Comments Processing, Attn: FWS-HQ-IA-2021-0099, U.S. Fish and Wildlife Service, MS: PRB/3W, 5275 Leesburg Pike, Falls Church, VA 22041-3803.

We request that you send comments only by the methods described above. We will post all comments on https://www.regulations.gov. This generally means that we will post any personal information you provide us (see Public Comments, below, for more information).

FOR FURTHER INFORMATION CONTACT: Mary Cogliano, Manager, Branch of Permits, Division of Management Authority; U.S. Fish and Wildlife Service; 5275 Leesburg Pike, MS: IA; Falls Church, VA 22041; telephone 703-358-2104). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

On November 17, 2022, we published a proposed rule (87 FR 68975) to revise the rule for the African elephant (Loxodonta africana) promulgated under section 4(d) of the Endangered Species Act of 1973, as amended (ESA). The proposed rule opened a 60-day comment period, ending January 17, 2023. We received requests to extend the public comment period. With this document, we are announcing an extension of the comment period an additional 60 days (see DATES, above) to allow the public further opportunity to provide comments on the proposed rule.

For a description of previous Federal actions concerning the African elephant and information on the types of comments that would be helpful to us in promulgating this rulemaking action, please refer to the November 17, 2022, proposed rule (87 FR 68975).

Public Comments

If you already submitted comments or information on the November 17, 2022 (87 FR 68975), proposed rule, please do not resubmit them. Any such comments are incorporated as part of the public record of the rulemaking proceeding, and we will fully consider them in the preparation of any final rule.

You may submit your comments and materials concerning this proposed rule by one of the methods listed under ADDRESSES. We will not accept comments sent by email or fax or to an address not listed under ADDRESSES.

If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov.

Signing Authority

Shannon Estenoz, Assistant Secretary for Fish and Wildlife and Parks, approved this action on January 4, 2023, for publication. On January 12, 2023, Shannon Estenoz authorized the undersigned to sign and submit the document to the Office of the Federal Register for publication electronically as an official document of the Department of the Interior.

Maureen D. Foster,
Chief of Staff, Office of the Assistant Secretary for Fish and Wildlife and Parks.

[FR Doc. 2023-00858 Filed 1-13-23; 8:45 am]

BILLING CODE 4333-15-P